DEPARTMENT OF HEALTH AND HUMAN SERVICES

National Institutes of Health

National Cancer Institute; Amended Notice of Meeting

Notice is hereby given of a change in the meeting of the National Cancer Institute Clinical Trials and Translational Research Advisory Committee, July 14, 2021, 11:00 a.m. to July 14, 2021, 2:00 p.m., National Cancer Institute Shady Grove, 9609 Medical Center Drive, Rockville, MD 20850, which was published in the Federal Register on May 20, 2021, 86 FR 27458.

This meeting notice is amended to change the meeting end time. The meeting will now be held from 11:00 a.m. to 3:00 p.m. on July 14, 2021. The meeting will be held as a virtual meeting and is open to the public.

Dated: May 20, 2021.
Melanie J. Pantoja,
Program Analyst, Office of Federal Advisory Committee Policy.

[FR Doc. 2021-11106 Filed 5-25-21; 8:45 am]

BILLING CODE 4140-01-P